DEPARTMENT OF ENERGY

National Nuclear Security Administration

Availability of the Final Environmental Impact Statement for the Proposed Relocation of Technical Area 18 Capabilities and Materials

AGENCY: National Nuclear Security Administration, DOE.

ACTION: Notice of availability.

SUMMARY: The Department of Energy's (DOE) National Nuclear Security Administration (NNSA) announces the availability of the Final Environmental Impact Statement (EIS) for the Proposed Relocation of Technical Area 18 Capabilities and Materials (hereafter referred to as the TA-18 Relocation Final EIS). The TA-18 Relocation Final EIS evaluates the environmental impacts associated with relocating a portion of the TA-18 capabilities and materials to the following alternative locations: (1) A different site at Los Alamos National Laboratory (LANL) at Los Alamos, New Mexico; (2) the Nevada Test Site (NTS) near Las Vegas, Nevada (the preferred alternative); (3) the Sandia National Laboratory (SNL) at Albuquerque, New Mexico; and (4) the Argonne National Laboratory—West (ANL-W) near Idaho Falls, Idaho. The TA-18 Relocation Final EIS also evaluates the alternative of upgrading the existing facilities at TA-18, and the no-action alternative of maintaining the missions at the current TA-18 location.

DATES: The NNSA intends to issue a Record of Decision on the TA-18 Final EIS no sooner than 30 days after the Environmental Protection Agency publishes a notice of filing of the TA-18 Final EIS in the Federal Register.

ADDRESSES: A copy of the TA-18 Relocation Final EIS or its Summary may be obtained upon request in writing (DOE/NNSA, TA-18 Relocation Final EIS, Attn: Mr. Jay Rose, NA-53, 1000 Independence Avenue, SW., Washington, DC 20585); by fax (202-586-5324); by phone (1-800-832-0885, ext. 65484), or by E-mail (James.Rose@ns.doe.gov).

FOR FURTHER INFORMATION CONTACT: For general information on the NNSA NEPA process, please contact: Mr. James J. Mangeno, NNSA NEPA Compliance Officer, U.S. Department of Energy/NNSA, 1000 Independence Avenue, SW., Washington, DC 20585; or telephone 1-800-832-0885, ext. 68395. For general information on the DOE NEPA process, please contact: Ms. Carol M. Borgstrom, Director, Office of NEPA Policy and Compliance (EH-42), DOE, 1000 Independence Avenue, SW., Washington, DC 20585, telephone 202-586-4600, or leave a message at 1-800-472-2756.

SUPPLEMENTARY INFORMATION: The NNSA is responsible for providing the Nation with nuclear weapons, ensuring the safety and reliability of those nuclear weapons, and supporting programs that reduce global nuclear proliferation. These missions are accomplished through the use of a core team of highly trained nuclear experts. The TA-18 facilities at LANL are the Nation's only facilities capable of performing general-purpose nuclear materials handling and criticality experiments. These experiments provide unique training to a variety of federal agencies, including DOE, NNSA, and Nuclear Regulatory Commission personnel in areas such as nuclear materials safety, emergency response in support of counterterrorism activities, and safeguards and arms control in support of programs aimed at controlling excess nuclear materials.

The TA-18 buildings and infrastructure are near the end of their useful life, and action is required to assess alternatives for continuing these activities for the next 25 years. The TA-18 Relocation Final EIS identifies siting options to assist the NNSA in determining a long-range strategy for maintaining nuclear criticality missions, infrastructure, and expertise currently residing at TA-18.

The TA-18 Relocation Final EIS evaluates the potential direct, indirect, and cumulative environmental impacts associated with relocating the TA-18 mission to the the following DOE sites: (1) A different site at LANL; (2) NTS (the preferred alternative); (3) SNL; and (4) ANL-W. The TA-18 Relocation Final EIS also analyzes upgrading the TA-18 facilities at LANL and the no-action alternative of maintaining the operations at the current TA-18 location.

In the Final EIS, the acting Administrator of the NNSA designated the NTS alternative as the preferred alternative for activities involving Security Category I/II materials, which constitute roughly half of the activities conducted at TA-18. The NTS alternative, which would house four of the five TA-18 experimental reactors in the existing Device Assembly Facility (DAF), was designated the preferred alternative based upon cost, technical, environmental, and mission factors. NNSA's preferred alternative also has the balance of the TA-18 missions, involving mostly Security Category III/IV materials and operations, remaining at LANL.

Signed in Washington, DC this 10th day of September, 2002.
Everet H. Beckner,
Deputy Administrator for Defense Programs.

[FR Doc. 02-23936 Filed 9-19-02; 8:45 am]

BILLING CODE 6450-01-P